DEPARTMENT OF HEALTH AND HUMAN SERVICES

Establishment of the Interdepartmental Substance Use Disorders Coordinating Committee and Solicitation of Nominations for Committee Members

AGENCY: Office of the Assistant Secretary for Health, Office of the Secretary, U.S. Department of Health and Human Services.

ACTION: Notice.

SUMMARY: The U.S. Department of Health and Human Services (HHS) hereby announces the establishment of the Interdepartmental Substance Use Disorders Coordinating Committee (Committee) pursuant to Section 7022 of the Substance Use-Disorder Prevention that Promotes Opioid Recovery and Treatment for Patients and Communities Act. The Committee will consist of representatives of specific federal agencies and non-federal individuals and entities who represent diverse disciplines and views. The Committee will identify areas for improved coordination related to substance abuse, including research, services, supports and prevention activities across all relevant Federal agencies. In identifying areas for coordination, the committee will provide recommendations for improving Federal programs for the prevention and treatment of, and recovery from, substance use disorders, including by expanding access to prevention, treatment and recovery services. They will also analyze substance use disorder prevention and treatment strategies in different regions of and populations in the United States and evaluate the extent to which Federal substance use disorder and treatment strategies are aligned with State and local substance disorder and treatment strategies.

Through this notice, HHS is also requesting nominations of individuals who are interested in being considered for appointment to the Committee. Resumes or curricula vitae from qualified individuals who wish to be considered for appointment as a member of the Committee are currently being accepted.

DATES: Nominations must be received no later than 11:59 p.m. June 14, 2019.

ADDRESSES: All nominations must be submitted via email at SUDCommittee@hhs.gov with the subject line: Interdepartmental SUD Coordinating Committee.

FOR FURTHER INFORMATION CONTACT: Roula K. Sweis, Psy.D., M.A., Chief, Operations and Management, Office of the Assistant Secretary for Health; U.S. Department of Health and Human Services; Telephone: 202-260-6619; Fax: 202-690-4631; Email address: SUDCommittee@hhs.gov (please indicate in the subject line: Interdepartmental SUD Coordinating Committee). The Committee charter may be accessed online at https://www.hhs.gov/ash/advisory-committees/substance-use-disorders/index.html. The charter includes detailed information about the purpose, function, and structure of the Committee.

SUPPLEMENTARY INFORMATION: Section 7022 of the Substance Use-Disorder Prevention that Promotes Opioid Recovery and Treatment for Patients and Communities Act (SUPPORT Act, Pub. L. 115-271) requires the HHS Secretary, in coordination with the Director of National Drug Control Policy, to establish the Interdepartmental Substance Use Disorders Coordinating Committee. The Committee will consist of representatives of specific federal agencies and non-federal individuals and entities who represent diverse disciplines and views. The Committee will identify areas for improved coordination related to substance abuse, including research, services, supports and prevention activities across all relevant Federal agencies. In identifying areas for coordination, the committee will provide recommendations for improving Federal programs for the prevention and treatment of, and recovery from, substance use disorders, including by expanding access to prevention, treatment and recovery services. They will also analyze substance use disorder prevention and treatment strategies in different regions of and populations in the United States and evaluate the extent to which Federal substance use disorder and treatment strategies are aligned with State and local substance disorder and treatment strategies.

Objectives and Scope of Activities. The Committee will perform the following duties:

(1) Identify areas for improved coordination of activities, if any, related to substance use disorders, including research, services, supports, and prevention activities across all relevant Federal agencies;

(2) identify and provide to the Secretary recommendations for improving Federal programs for the prevention and treatment of, and recovery from, substance use disorders, including by expanding access to prevention, treatment, and recovery services;

(3) analyze substance use disorder prevention and treatment strategies in different regions of and populations in the United States and evaluate the extent to which Federal substance use disorder prevention and treatment strategies are aligned with State and local substance use disorder prevention and treatment strategies;

(4) make recommendations to the Secretary regarding any appropriate changes with respect to the activities and strategies described in paragraphs (1) through (3);

(5) make recommendations to the Secretary regarding public participation in decisions relating to substance use disorders and the process by which public feedback can be better integrated into such decisions; and

(6) make recommendations to ensure that substance use disorder research, services, supports, and prevention activities of the Department of Health and Human Services and other Federal agencies are not unnecessarily duplicative.

Membership and Designation. The Committee shall be composed of the following Federal (ex-officio) members: The Secretary of HHS or designee, who shall serve as the Chair of the Committee; the Attorney General of the United States or designee; the Secretary of Labor or designee; the Secretary of Housing and Urban Development or designee; the Secretary of Education or designee; the Secretary of Veterans Affairs or designee; the Commissioner of Social Security or designee; the Assistant Secretary for Mental Health and Substance Use or designee; and the Director of National Drug Control Policy or designee. Representatives of other Federal agencies that support or conduct activities or programs related to substance abuse disorders, as determined appropriate by the Secretary.

The Committee shall include a minimum of 15 non-Federal members appointed by the Secretary as special government employees (SGEs). These members will be appointed to terms of three years and may be reappointed for one or more additional three-year terms. A vacancy on the Committee will be filled in the same manner in which the original appointment was made. Any individual appointed to fill a vacancy for an unexpired term will be appointed for the remainder of such a term and may serve after the expiration of such term until a successor has been appointed. No member of the Committee shall serve as a Representative member.

At least two members shall be individuals who have received treatment for a diagnosis of substance use disorder; at least two members shall be directors of State substance abuse agencies; at least two members shall be representatives of leading research, advocacy or service organizations for individuals with substance use disorders; at least two members shall be a physician, licensed mental health professional, advance practice registered nurse, or physician assistant; and have experience in treating individuals with substance use disorders; at least one member shall be a substance use disorder treatment professional who provides treatment services at a certified opioid treatment program; at least one member shall be a substance use disorder treatment professional who has research or clinical experience in working with racial and ethnic minority populations; at least one member shall be a substance use disorder treatment professional who has research or clinical mental health experience in working with medically underserved populations; at least one member shall be a State certified substance use disorder peer support specialist; at least one member shall be a drug court judge or judge with experience in adjudicating cases related to substance use disorders; and at least one member shall be an individual with experience providing services for homeless individuals with a substance use disorder.

Pursuant to advance written agreement, each non-federal member of the Committee will waive his or her right to compensation for performing services as a member of the Committee. However, non-federal members shall receive per diem and reimbursement for travel expenses incurred in relation to performing duties for the Commission, as authorized by the Federal Advisory Committee Act (FACA) and 5 U.S.C. 5703 for persons who are employed intermittently to perform services for the Federal government and in accordance with Federal travel regulations. Ex-officio members of the Commission remain covered under their current compensation system.

Estimated Number and Frequency of Meetings. The Committee will meet not less than two times a year each year, and these may be conducted by teleconference or video conference at the discretion of the DFO. The meetings will be open to the public, except as determined otherwise by the Secretary, or other official to whom authority has been delegated, in accordance with the guidelines under Government in the Sunshine Act, 5 U.S.C. 552b(c). Notice of all meetings will be provided to the public in accordance with the FACA. Meetings will be conducted and records of the proceedings will be kept, as required by applicable laws and departmental policies. A quorum for the conduct of business by the full Committee will consist of a majority of current appointed members.

When the Secretary or Secretary's designee determines that a meeting will be closed or partially closed to the public, in accordance with stipulations of Government in the Sunshine Act, 5 U.S.C. 552b(c), then a report will be prepared by the DFO that includes, at a minimum, a list of members and their business addresses, the Committee's functions, date and place of the meeting, and a summary of the Committee's activities and recommendations made during the fiscal year. A copy of the report will be provided to the Department Committee Management Officer.

Nominations. Nominations, including self-nominations, of individuals who have the specified expertise and knowledge will be considered for appointment as members of the Committee. A nomination should include, at a minimum, the following for each nominee: (1) A letter of nomination that clearly states the name and affiliation of the nominee, the basis for the nomination, and a statement from the nominee that indicates that the individual would be willing to serve as a member of the Committee (if being nominated by someone else); (2) the address, telephone number, and email address of the individual being nominated and the nominator (if applicable); and (3) a current copy of the nominee's curriculum vitae or resume, which should be limited to no more than 10 pages. Incomplete nomination packages will not be reviewed.

Every effort will be made to ensure that the composition of the Committee includes individuals from various geographic locations, including rural and underserved areas; racial and ethnic minorities; genders, and persons living with disabilities. Individuals other than officers or employees of the United States government being considered for appointment as members of the Committee will be required to complete and submit a report of their financial holdings. An ethics review must be conducted to ensure that individuals appointed as members of the Committee are not involved in any activity that may pose a potential conflict of interest for the official duties that are to be performed. This is a federal ethics requirement that must be satisfied upon entering the position and annually throughout the established term of appointment on the Committee.

Authority: The Interdepartmental Substance Use Disorders Coordinating Committee (hereafter referred to as the Committee) is required under Section 7022 of the Substance Use-Disorder Prevention that Promotes Opioid Recovery and Treatment for Patients and Communities Act (SUPPORT Act, Pub. L. 115-271). The Committee is governed by the provisions of the Federal Advisory Committee Act, Public Law 92-463, as amended (5 U.S.C. App), which sets forth standards for the formation and use of federal advisory committees.

Dated: May 6, 2019.
Roula K. Sweis,
Designated Federal Official.

[FR Doc. 2019-09969 Filed 5-14-19; 8:45 am]

BILLING CODE 4150-28-P